FEDERAL COMMUNICATIONS COMMISSION

Radio Broadcasting Services; AM or FM Proposals To Change the Community of License

AGENCY: Federal Communications Commission.

ACTION: Notice.

SUMMARY: The following applicants filed AM or FM proposals to change the community of license: CEDAR COVE BROADCASTING, INC., Station KMPB, Facility ID 94204, BPED-20090902AAR, From FRISCO, CO, To MINTURN, CO; COCHISE BROADCASTING LLC, Station KCDC, Facility ID 166049, BPH-20090828AEA, From MILFORD, UT, To LA VERKIN, UT; EDUCATIONAL MEDIA FOUNDATION, Station KRLP, Facility ID 91900, BPED-20090831ADE, From WINDOM, MN, To FAIRMONT, MN; GEOS COMMUNICATIONS, Station WNKZ, Facility ID 66715, BPH-20090908AAW, From LAPORTE, PA, To DUSHORE, PA; ROY E. HENDERSON TR/AS NEW ULM BROADCASTING CO., Station KNRG, Facility ID 15113, BPH-20090827ACZ, From NEW ULM, TX, To SMITHVILLE, TX.

DATES: Comments may be filed through November 30, 2009.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E9-23498 Filed 9-28-09; 8:45 am]

BILLING CODE 6712-01-P